DEPARTMENT OF STATE

[Public Notice 5619]

Bureau of Educational and Cultural Affairs (ECA) Request for Grant Proposals: 2007 Summer Institute for English Language Educators from South Africa

Announcement Type: New Grant.

Funding Opportunity Number: ECA/A/E/AF-07-01.

Catalog of Federal Domestic Assistance Number: 00.000

DATES:

Key Dates: Application Deadline: Friday, February 2, 2007.

Executive Summary: The African Programs Branch, Office of Academic Exchange Programs of the Bureau of Educational and Cultural Affairs announces an open competition for the 2007 Summer Institute for English Language Educators from South Africa. Accredited, post-secondary educational institutions meeting the provisions described in Internal Revenue Code section 26 U.S.C. 501(c)(3) may submit proposals to provide a six-week training program for approximately 28 English language educators from South Africa. Subject to availability of funds, one grant will be awarded to conduct the 2007 Institute.

I. Funding Opportunity Description

Authority: Overall grant making authority for this program is contained in the Mutual Educational and Cultural Exchange Act of 1961, as amended, Public Law 87-256, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic, and peaceful relations between the United States and the other countries of the world.” The funding authority for the program above is provided through legislation.

Purpose: American institutions of higher education having an acknowledged reputation in the field of English as a Second Language (ESL) and in curriculum design may apply to develop and deliver a six-week summer program for approximately twenty-eight English language educators from South Africa. The Summer Institute should be programmed to encompass about 45 days and should begin on or about June 11, 2007. A variation in start date, up to one week beyond June 11, 2007, will be considered if it is necessitated by the host institution's academic calendar. The first five weeks of the program will consist of academic coursework specializing in project-based ESL materials development and teaching methodology focusing on three theme-based areas: HIV-AIDS, Civic Education and Civil Society, and Economics/Entrepreneurship. The Institute will include instruction in classroom management and curriculum design to support these ESL theme-based projects at the secondary and tertiary levels. The host institution, with the help of participants, will develop a website featuring program information and resource materials. The sixth week will consist of an escorted cultural and educational visit to Washington DC.

From primary grade four, English is the medium of instruction and assessment in all subjects for most South African students. For the majority of students and teachers, however, English is a second or third language. Academic literacy in English is a major obstacle to quality education in South Africa. Given the need to teach theme-based English across the South African curriculum, English language educators are key personnel for quality learning.

Presently, there exists a severe shortage of skilled classroom educators. South African teachers need to produce and deliver culturally appropriate and pedagogically sound content-based materials in a multi-cultural setting.

The 2007 Summer Institute for English Language Educators from South Africa will provide participants with intensive training in the fundamentals of theme-based ESL materials development and classroom methodology, continuous assessment, multicultural, multilingual classroom management, and lesson and course design. These four areas are critical in South Africa where teachers are attempting to implement a new curriculum in a context of educational transformation and Outcomes Based Education (OBE). The Summer Institute will also provide structured exposure to the culture and diversity of the U.S.

The program should maintain a relative balance among discussion sessions, lectures and collaborative workshops. Lengthy lectures should be kept to a minimum. Participants should be given ample opportunity to work together and learn from each other as well as from their American instructors. Given the project-based orientation exploring the themes of HIV-AIDS, Civic Education and Civil Society, and Economics/Entrepreneurship, participants will be able to share not only content but relevant ESL materials with their colleagues and home institutions. Participants will receive a book allowance.

Few participants will have visited the United States previously. In view of this, an initial orientation to the host institution community and a brief introduction to U.S. society and education should be an integral part of the Institute and should be held on the first two to three days of the program.

Program Design: Applicants should design a two-part program:

(1) A five-week academic program supporting South Africa's goal of education transformation through the delivery of intensive training in theme-based materials development, teaching methodology, continuous assessment and curriculum design for Outcomes Based Education (OBE) and ESL learning at the secondary and tertiary levels. Division of the group into 3-4 manageable project teams, each with a selected thematic focus and each targeting the particular needs of the secondary and tertiary levels is essential. Training should be sensitive to any special needs of the South African participants.

(2) A one-week escorted visit to Washington, DC, planned, arranged, and conducted by the Institute Program Director and principal Institute staff. The Washington program should be seen as an integral part of the Summer Institute, complementing and reinforcing both the academic and thematic content. This escorted visit should take place at the end of the Institute. Programming in Washington will include a half-day briefing session at the Bureau of Educational and Cultural Affairs, United States Department of State. Additionally, visits to such organizations as TESOL headquarters, major academic institutions in the area with TESOL and adult education ESL programs, as well as organizations and groups working in the thematic areas of the program (HIV/AIDS, Civic Education and Civil Society, and Economics/Entrepreneurship) should be included. A visit to the Embassy of South Africa should also be planned. Proposals may include cultural and educational visits en route to Washington, if such stops contribute to program quality and are cost-effective. The participants will return to South Africa at the conclusion of the Washington program.

Specific areas to address in the Institute are:

(1) Preparation of pre-and/or in-service teacher training modules and workshops designed by participants for delivery to specific audiences of teachers and colleagues upon their return to South Africa.

(2) ESL materials development and teaching methodology with an emphasis on theme-based ESL instruction. Thematic issues should include HIV-AIDS and Health, Civic Education and Civil Society (with special attention to human rights and gender issues), and Economics/Entrepreneurship. Materials should include literary texts as well as other authentic materials. Techniques for continuous assessment should also be addressed.

(3) Classroom management with special reference to teaching in large, multi-lingual, multi-ethnic classrooms.

(4) Introduction to Action Research as an aid to professional development and more reflective and responsive teaching practices.

(5) Education Technology:

(a) Introduction and/or enrichment of knowledge of computer-based word processing and appropriate software for participants who lack these skills. Introduction to computer networks for ESL professionals.

(b) Introduction and/or enrichment of knowledge of e-mail, usenet and the World Wide Web as pedagogic and research tools.

(c) Introduction to Power Point and other applications that participants can use with learners and with colleagues in teacher training sessions when they return to South Africa.

(6) Visits to:

(a) Local institutions and organizations related to thematic areas, including Junior Achievement programs.

(b) On-going ESL classes at the host institution, other universities, and in local educational or community centers, providing participants with opportunities to observe ESL methodology, materials, and multi-cultural classrooms featuring content-based language learning across the curriculum.

(7) Involvement of participants in American culture through community/cultural activities. This should include interaction with Americans from a variety of backgrounds. In this regard, the Institute should incorporate cultural features such as field trips to places of local interest; homestays with families in the area (with teachers and other educators if possible), and events that will bring the participants into contact with Americans from a variety of backgrounds.

(8) Formative evaluation and adjustment of program components accordingly, as well as summative evaluation of the entire Institute upon its completion.

(9) Selection and purchase of books and materials that support the goals and content of the program. Shipment of the same materials at the end of the Institute to the participants' South African addresses.

In accordance with the objectives of the Summer Institute, participants will concentrate on their thematic projects. However, the academic program should provide time for interaction with American students, faculty, and school administrators, and the local community to promote mutual understanding between the people of the United States and South Africa.

Participants:

Participants, to be selected by the Public Affairs Section of the U.S. Embassy in Pretoria, will be South African educators involved with English as a second language (ESL) teaching and teacher training. The selected participants will be drawn from public and private sectors including the national and provincial departments of education, teacher resource centers, non-governmental organizations, university departments of education and teacher training colleges. Minimum qualification for all participants will be a university degree in English or Education. Recruitment will concentrate on English language classroom teachers at intermediate phase levels (grades 4-6), and university and Department of Education officials actively involved with intermediate phase teacher training, and curriculum and materials development. Depending upon availability of funds, approximately 28 participants from South Africa will participate in the Institute.

Program Elements:

The proposal should be designed to support the following specific activities:

1. Pre-program communication among participants and the U.S. institution to facilitate an exchange of ideas developed for the Institute. Communication should be e-mail based.

2. Creation of a Web site identifying the program goals/syllabus and on-going participant thematic projects. The site should be a dynamic resource, with weekly updates during the duration of the program, and regular updates in South Africa following program completion. The Web site should display each of the three completed theme-based projects. The participants should develop site content, while site construction and Internet hosting should be provided by the grantee institution. All Institute participants should receive a CD-ROM of their Web site creation.

3. A five-week academic program comprising coursework on

—Topic-specific ESL theme-based materials development and teaching methodology with a focus on academic literacy (writing and reading, including ESL remedial reading and reading recovery instruction);

—Effective in-service and pre-service teacher training sessions featuring the skills and knowledge gained on the program to enable participants to conduct workshops upon return to South Africa;

—Theory and practice of continuous assessment;

—Action Research design and practice for professional development and better teaching and learning;

—Use of software applications such as Power Point, and Internet and Web resources for materials development and teacher training.

4. Cultural activities facilitating interaction among the South African participants, American students, faculty, and administrators and the local community to promote mutual understanding between the people of the United States and the people of South Africa, planned within the five-week academic program.

5. A one-week, escorted, cultural and educational visit to Washington, DC, complementing and reinforcing the academic material. The visit will be planned, arranged and conducted by the Institute Program Director and staff.

6. Follow-on communication among participants and the U.S. institution to continue exchanges of ideas developed during the Institute.

7. Selection, purchase and shipment of books and materials for participants' use in follow-on activities and training projects in South Africa.

Orientation:

The host institution should plan to conduct either a pre-program needs assessment if time allows, or a needs assessment upon the arrival of the participants. The Institute Director should be prepared to adjust program emphasis as necessary to respond to participants' professional concerns.

The Public Affairs Section of the U.S. Embassy, Pretoria, will hold a pre-departure orientation for all participants in South Africa. The grantee institution will be expected to provide general orientation materials for this meeting. This material might include a tentative program outline with suggested goals and objectives, relevant background information about the U.S. institutions and individuals involved in the project, and information about the local housing, climate, and available services.

Program Administration:

All Summer Institute programming and administrative logistics, management of the academic program and the educational tour, and on-site arrangements will be the responsibility of the grantee institution. The grantee institution is responsible for arrangements for lodging, food, maintenance and local travel for participants while at the host institution and in Washington, DC. The grantee institution should strive to balance cost-effectiveness in accommodations and meal plans with flexibility for differing diets and personal habits among the participants. Single rooms or housing in residential suites, which offer privacy, are preferable.

The Bureau will provide the grantee institution with participants' curricula vitae and travel itineraries and will be available to offer guidance throughout the Institute. The Bureau will arrange participants' international travel. The participants will arrive directly at the Institute site from their home countries. It is expected that the Institute program staff will make arrangements to have participants met upon arrival at the airport nearest the host institution. Departures will be from Washington, DC. Participants will be given international roundtrip tickets, which will include the leg from the host institution to Washington, DC, if necessary.

The Institute staff will plan for ground transportation to and from Washington area airports.

Proposals should describe the available health care system and the plan to provide health care access to Institute participants. The Department of State will provide limited health insurance coverage to all participants. The host institution will be responsible for enrolling the participants in the insurance program with materials supplied by the Department.

II. Award Information

Type of Award: Grant Agreement.

Fiscal Year Funds: FY 2007.

Approximate Total Funding: $200,000.

Approximate Number of Awards: 1.

Approximate Average Award: $200,000.

Anticipated Award Date: Pending availability of funds, April 1, 2007.

Anticipated Project Completion Date: July 21, 2007.

Additional Information: Pending successful implementation of this program and the availability of funds in subsequent fiscal years, it is ECA's intent to renew this grant for two additional fiscal years, before openly competing it again.

III. Eligibility Information

III.1. Eligible applicants: Applications may be submitted by accredited, post-secondary educational institutions meeting the provisions described in Internal Revenue Code section 26 U.S.C. 501(c)(3).

III.2. Cost Sharing or Matching Funds: There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs which are claimed as your contribution, as well as costs to be paid by the Federal Government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements:

(a) Bureau grant guidelines require that organizations with less than four years experience in conducting international exchanges be limited to $60,000 in Bureau funding. ECA anticipates awarding one grant, in an amount up to $200,000 to support program and administrative costs required to implement this exchange program. Therefore, organizations with less than four years experience in conducting international exchanges are ineligible to apply under this competition. The Bureau encourages applicants to provide maximum levels of cost sharing and funding in support of its programs.

IV. Application and Submission Information

Note: Please read the complete Federal Register announcement before sending inquiries or submitting proposals. Once the RFGP deadline has passed, Bureau staff may not discuss this competition with applicants until the proposal review process has been completed.

IV.1 Contact Information to Request an Application Package: Please contact the African Programs Branch, ECA/A/E/AF, Room 232, U.S. Department of State, SA-44, 301 4th Street, SW., Washington, DC 20547, tel: (202) 453-8119 and fax (202) 453-8121, e-mail: gilpinvr@state.gov to request a Solicitation Package. Please refer to the Funding Opportunity Number ECA/A/E/AF-07-01 located at the top of this announcement when making your request.

The Solicitation Package contains the Proposal Submission Instruction (PSI) document which consists of required application forms, and standard guidelines for proposal preparation.

Please specify Bureau Program Officer, Valerie Gilpin and refer to the Funding Opportunity Number ECA/A/E/AF-07-01 located at the top of this announcement on all other inquiries and correspondence.

IV.2. To Download a Solicitation Package Via the Internet:

The entire Solicitation Package may be downloaded from the Bureau's Web site at http://exchanges.state.gov/education/rfgps/menu.htm, or from the Grants.gov Web site at http://www.grants.gov. Please read all information before downloading.

IV.3. Content and Form of Submission: Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence To All Regulations Governing The J Visa. The Bureau of Educational and Cultural Affairs is placing renewed emphasis on the secure and proper administration of Exchange Visitor (J visa) Programs and adherence by grantees and sponsors to all regulations governing the J visa. Therefore, proposals should demonstrate the applicant's capacity to meet all requirements governing the administration of the Exchange Visitor Programs as set forth in 22 CFR 62, including the oversight of Responsible Officers and Alternate Responsible Officers, screening and selection of program participants, provision of pre-arrival information and orientation to participants, monitoring of participants, proper maintenance and security of forms, recordkeeping, reporting and other requirements.

ECA will be responsible for issuing DS-2019 forms to participants in this program.

A copy of the complete regulations governing the administration of Exchange Visitor (J) programs is available at http://exchanges.state.gov or from: United States Department of State, Office of Exchange Coordination and Designation, ECA/EC/ECD-SA-44, Room 734, 301 4th Street, SW., Washington, DC 20547; Telephone: (202) 203-5029; FAX: (202) 453-8640.

Please refer to Solicitation Package for further information.

IV.3d.2 Diversity, Freedom and Democracy Guidelines. Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation. Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and are usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) Specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3e. Please take the following information into consideration when preparing your budget:

IV.3e.1. Applicants must submit a comprehensive budget for the entire program. There must be a summary budget as well as breakdowns reflecting both administrative and program budgets. Applicants may provide separate sub-budgets for each program component, phase, location, or activity to provide clarification.

IV.3e.2. Allowable costs for the program include the following:

(1) Instructional costs (for example: instructors' salaries, honoraria for outside speakers, educational course materials);

(2) Lodging, meals, and incidentals for participants;

(3) Expenses associated with cultural activities planned for the group of participants (for example: tickets, transportation);

(4) Administrative costs as necessary.

(5) U.S. ground transportation costs to U.S. appointments, meetings and to/from airports.

Please refer to the Solicitation Package for complete budget guidelines and formatting instructions.

IV.3f. Application Deadline And Methods Of Submission:

Application Deadline Date: Friday, February 2, 2007.

Reference Number: ECA/A/E/AF-07-01.

Methods of Submission:

Applications may be submitted in one of two ways:

(1) In hard-copy, via a nationally recognized overnight delivery service (i.e., DHL, Federal Express, UPS, Airborne Express, or U.S. Postal Service Express Overnight Mail, etc.), or

(2) electronically through http://www.grants.gov.

Along with the Project Title, all applicants must enter the above Reference Number in Box 11 on the SF-424 contained in the mandatory Proposal Submission Instructions (PSI) of the solicitation document.

IV.3f.1 Submitting Printed Applications. Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and 8 copies of the application should be sent to: U.S. Department of State, SA-44, Bureau of Educational and Cultural Affairs, Ref.: ECA/A/E/AF-07-01, Program Management, ECA/EX/PM, Room 534, 301 4th Street, SW., Washington, DC 20547.

Applicants submitting hard-copy applications must also submit the “Executive Summary” and “Proposal Narrative” sections of the proposal in text (.txt) format on a PC-formatted disk. The Bureau will provide these files electronically to the appropriate Public Affairs Section at the U.S. embassy for its review.

IV.3f.2—Submitting Electronic Applications. Applicants have the option of submitting proposals electronically through Grants.gov (http://www.grants.gov). Complete solicitation packages are available at Grants.gov in the “Find” portion of the system. Please follow the instructions available in the ‘Get Started’ portion of the site (http://www.grants.gov/GetStarted).

Several of the steps in the Grants.gov registration process could take several weeks. Therefore, applicants should check with appropriate staff within their organizations immediately after reviewing this RFGP to confirm or determine their registration status with Grants.gov. Once registered, the amount of time it can take to upload an application will vary depending on a variety of factors including the size of the application and the speed of your Internet connection. Therefore, we strongly recommend that you not wait until the application deadline to begin the submission process through Grants.gov.

Direct all questions regarding Grants.gov registration and submission to:Grants.gov Customer Support, Contact Center Phone: 800-518-4726, Business Hours: Monday-Friday, 7 a.m.-9 p.m. Eastern Time.

E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Applicants will receive a confirmation e-mail from grants.gov upon the successful submission of an application. ECA will not notify you upon receipt of electronic applications.

It is the responsibility of all applicants submitting proposals via the Grants.gov web portal to ensure that proposals have been received by Grants.gov in their entirety, and ECA bears no responsibility for data errors resulting from transmission or conversion processes.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for grants resides with the Bureau's Grants Officer.

Review Criteria

Technically eligible applications will be competitively reviewed according to the criteria stated below. These criteria are not rank ordered and all carry equal weight in the proposal evaluation:

1. Quality of the program idea/plan: Proposals should exhibit originality, substance, precision, and relevance to the Bureau's mission. Proposals should demonstrate effective use of community and regional resources to enhance the cultural and educational experiences of participants. A detailed agenda and relevant work plan should demonstrate how the institution will meet the program's objectives. Proposals should show substantive program activities and must adhere to the program guidelines described above.

2. Institutional Capacity: Proposals should demonstrate an institutional record of successful exchange programs, including responsible fiscal management and full compliance with all reporting requirements for past Bureau grants as determined by Bureau Grants Staff. The Bureau will consider the past performance of prior recipients and the demonstrated potential of new applicants. Proposed personnel and institutional resources should be adequate and appropriate to achieve the program's goals.

3. Multiplier effect/impact: Proposed programs should strengthen long-term mutual understanding, including maximum sharing of information and establishment of long-term institutional and individual linkages.

4. Support of Diversity: Proposals should demonstrate the applicant's commitment to promoting the awareness and understanding of diversity. Program administrators should strive for diversity among Institute staff, university students, and the host communities which interact with participants.

5. Evaluation and Follow-on Activities: Proposals should include a plan to evaluate the program's success, both as the activities unfold and at the end of the program. A draft survey questionnaire or other technique plus description of a methodology to link outcomes to original project objectives is recommended. Proposals should provide a plan for continued follow-on activity (without Bureau support) ensuring that Bureau supported programs are not isolated events.

6. Cost-effectiveness and Cost Sharing: The overhead and administrative components of the proposal, including salaries and honoraria, should be kept as low as possible. All other items should be necessary and appropriate. Proposals should maximize cost sharing through other private sector support as well as institutional direct funding contributions. Homestays are not allowed as a grant-funded or cost-sharing item.

VI. Award Administration Information

VI.1a. Award Notices. Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2 Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations

Please reference the following Web sites for additional information: http://www.whitehouse.gov/omb/grants; http://exchanges.state.gov/education/grantsdiv/terms.htm#articleI.

VI.3. Reporting Requirements: You must provide ECA with a hard copy original plus two copies of the following reports: A final program and financial report no more than 90 days after the expiration of the award.

Grantees will be required to provide reports analyzing their evaluation findings to the Bureau in their regular program reports. (Please refer to IV. Application and Submission Instructions (IV.3.d.3) above for Program Monitoring and Evaluation information.)

All data collected, including survey responses and contact information, must be maintained for a minimum of three years and provided to the Bureau upon request.

All reports must be sent to the ECA Grants Officer and ECA Program Officer listed in the final assistance award document.

VII. Agency Contacts

For questions about this announcement, contact: Valerie Gilpin, African Programs Branch, ECA/A/E/AF, Room 232, Reference Number ECA/A/E/AF-07-01, U.S. Department of State, SA-44, 301 4th Street, SW., Washington, DC 20547, tel: (202) 453-8119 and fax (202) 453-8121, e-mail: gilpinvr@state.gov.

All correspondence with the Bureau concerning this RFGP should reference the above title and number ECA/A/E/AF-07-01.

Please read the complete Federal Register announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: November 16, 2006.
C. Miller Crouch,
Principal Deputy Assistant Secretary, Bureau of Educational and Cultural Affairs, Department of State.

[FR Doc. E6-19810 Filed 11-21-06; 8:45 am]

BILLING CODE 4710-05-P